DEPARTMENT OF COMMERCE

National Oceanic and Atmospheric Administration

RIN 0648-XA298

Mid-Atlantic Fishery Management Council; Public Meeting

AGENCY: National Marine Fisheries Service (NMFS), National Oceanic and Atmospheric Administration (NOAA), Commerce.

ACTION: Notice of public meeting.

SUMMARY: The Mid-Atlantic Fishery Management Council's (MAFMC) River Herring and Shad Ad Hoc Committee will hold a webinar meeting.

DATES: The meeting will be held on Friday, April 1, 2011, from 1 p.m. to 4:30 p.m.

ADDRESSES: The meeting will be held via webinar. Registration for the webinar is available at: https://www1.gotomeeting.com/register/949596009. A listening station will also be made available at the Council's address below.

Council address: Mid-Atlantic Fishery Management Council, 800 N. State Street, Suite 201, Dover, DE 19901; telephone: (302) 674-2331.

FOR FURTHER INFORMATION CONTACT: Christopher M. Moore PhD, Executive Director, Mid-Atlantic Fishery Management Council, 800 N. State Street, Suite 201, Dover, DE 19901; telephone: (302) 526-5255.

SUPPLEMENTARY INFORMATION: The purpose of this meeting is to develop recommendations for the Council regarding options available to the Council for management of River Herring (blueback and alewife) and Shad (American and hickory) stocks. Any briefing materials will be posted on the Council's Web site, http://www.mafmc.org.

Special Accommodations

The meeting is physically accessible to people with disabilities. Requests for sign language interpretation or other auxiliary aids should be directed to M. Jan Saunders at the Mid-Atlantic Council Office (302) 526-5251 at least 5 days prior to the meeting date.

Dated: March 11, 2011.
Tracey L. Thompson,
Acting Director, Office of Sustainable Fisheries, National Marine Fisheries Service.

[FR Doc. 2011-6095 Filed 3-15-11; 8:45 am]

BILLING CODE 3510-22-P